DEPARTMENT OF THE INTERIOR

Bureau of Land Management

[CO-600-04-1010-BN]

Notice of Public Meetings, Northwest Colorado Resource Advisory Council Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM), Northwest Colorado Resource Advisory Council (RAC) meeting will meet as indicated below.

DATES: The Northwest Colorado RAC meetings will be held February 12, 2004, May 6, 2004, August 12, 2004, and November 10, 2004.

ADDRESSES: The Northwest Colorado RAC meetings will be held February 12, 2004, at the Glenwood Springs Community Center located at 100 Wulfsohn Road, Glenwood Springs, Colorado; May 6, 2004, at the Lodore Hall located on the Browns Park National Wildlife Refuge in Moffat County, Colorado; August 12, 2004, at the Colorado State University Cooperative Extension Service Office located on the Grand County Fairgrounds in Kremmling, Colorado; and November 10, 2004, at the Holiday Inn located at 755 Horizon Drive in Grand Junction, Colorado.

The Northwest Colorado RAC meetings will begin at 9 a.m. and adjourn at approximately 4 p.m. Public comment periods will be at 9:30 a.m. and 3 p.m.

FOR FURTHER INFORMATION CONTACT: John Husband, BLM Little Snake Field Office Manager, 455 Emerson St., Craig, Colorado; Telephone (970) 826-5000.

SUPPLEMENTARY INFORMATION: The Northwest Colorado RAC advises the Secretary of the Interior, through the Bureau of Land Management, on a variety of public land issues in Colorado.

The purpose of the February 12, 2004 meeting is to consider several resource management related topics including the Roan Plateau Draft Management Plan, BLM National Sage Grouse Conservation Strategy, and Committee Reports. Topics of discussion for all Northwest Colorado RAC meetings may include fire management, land use planning, invasive species management, energy and minerals management, travel management, wilderness, wild horse herd management, land exchange proposals, cultural resource management, and other issues as appropriate.

These meetings are open to the public. The public may present written comments to the RACs. Each formal RAC meeting will also have time, as identified above, allocated for hearing public comments. Depending on the number of persons wishing to comment and time available, the time for individual oral comments may be limited.

Dated: January 5, 2004.
John E. Husband,
Little Snake Field Office Manager and Designated Federal Official for the Northwest Colorado RAC.

[FR Doc. 04-533 Filed 1-8-04; 8:45 am]

BILLING CODE 4310-JB-M